DEPARTMENT OF HEALTH AND HUMAN SERVICES

National Institutes of Health

National Heart, Lung, and Blood Institute; Amended Notice of Meeting

Notice is hereby given of a change in the meeting of the National Heart, Lung, and Blood Institute Special Emphasis Panel, Maximizing Opportunities for Scientific and Academic Independent Careers, February 23, 2024, 1:00 p.m. to 4:00 p.m., National Institutes of Health, 6705 Rockledge Drive, Bethesda, MD 20892 which was published in the Federal Register on January 18, 2024, FR Document No. 2024-01294, 89 FRN 4614.

This notice is being amended to change the SRO/Executive Secretary and Contact Person. Nawazish Naqvi, Ph.D., Scientific Review Officer, Office of Scientific Review/DERA, National Heart, Lung, and Blood Institute, National Institutes of Health, 6705 Rockledge Drive, Room 208-Y, Bethesda MD 20817, 301-451-6992, nawazish.naqvi@nih.gov. The meeting is closed to the public.

Dated: February 15, 2024.
Melanie J. Pantoja,
Program Analyst, Office of Federal Advisory Committee Policy.

[FR Doc. 2024-03521 Filed 2-20-24; 8:45 am]

BILLING CODE 4140-01-P